DEPARTMENT OF HEALTH AND HUMAN SERVICES

Administration for Children and Families

Submission to Office of Management and Budget; National Survey of Child and Adolescent Well-Being-Third Cohort (NSCAW III) (Office of Management and Budget #0970-0202)

AGENCY: Office of Planning, Research, and Evaluation, Administration for Children and Families, United States Department of Health and Human Services.

ACTION: Request for public comments.

SUMMARY: The Office of Planning, Research, and Evaluation (OPRE) within the Administration for Children and Families (ACF) is proposing an extension with revisions to the data collection activities conducted as part of the National Survey of Child and Adolescent Well-Being (NSCAW III) (Office of Management and Budget (OMB) #0970-0202). NSCAW is the only source of nationally representative, longitudinal, firsthand information about the functioning and well-being, service needs, and service utilization of children and families who come to the attention of the child welfare system. This request will allow additional time to conduct participant data collections. Minor changes to the instruments are requested to restore an in-person data collection option.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review-Open for Public Comments” or by using the search function. You can also obtain copies of the proposed collection of information by emailing OPREinfocollection@acf.hhs.gov. Identify all requests by the title of the information collection.

SUPPLEMENTARY INFORMATION:

Description: NSCAW is the only source of nationally representative, longitudinal, firsthand information about the functioning and well-being, service needs, and service utilization of children and families who come to the attention of the child welfare system. The first and second cohorts of NSCAW were initiated in 1999 and 2008, respectively. A major objective for the third cohort of NSCAW [NSCAW III] is to maintain the strengths of previous work, while better positioning the study to address the changing child welfare population. Phase I of NSCAW III, approved November 2016, is complete and included recruitment and sampling process data collection activities. Phase II of NSCAW III, approved July 2017, includes baseline and follow-up data collection activities, and panel maintenance activities. Phase II follow-up data collection and panel maintenance is still ongoing. Phase III of NSCAW III, approved in September 2020, includes data collection on the child welfare workforce in of participating agencies. Phase III data collection is complete, and analysis of the data is ongoing.

We seek approval for an extension with changes for the currently approved data collection activities, which includes follow-up data collection for Phase II and panel maintenance activities with NSCAW cohort members. As part of this request we are also proposing minor changes to the Phase II information collection. During the COVID-19 pandemic, the in-person option for data collection was removed. We are requesting to restore the previously approved in-person mode as an option for caregiver and child respondents for Phase II data collection.

Respondents: Children and caregivers enrolled in NSCAW III and child welfare agency personnel in participating NSCAW III agencies. Surveys and panel maintenance responses may be obtained by telephone, web, or in person.

Annual Burden Estimates
Instrument | Number of respondents (total over request period) | Number of responses per respondent (total over request period) | Average burden per response (in hours) | Total burden (in hours) | Annual burden (in hours)
Child Follow-up | 387 | 1 | .75 | 290 | 97
Caregiver Follow-up | 409 | 1 | .75 | 307 | 102
Caseworker Follow-up | 126 | 3 | 1.0 | 379 | 126
Panel Maintenance with NSCAW Cohort Members | 4,723 | 1 | .08 | 378 | 126

Estimated Total Annual Burden Hours: 451.

Authority: 42 U.S.C. 628b; Continuing Appropriations Act of 2022.

Mary B. Jones,
ACF/OPRE Certifying Officer.

[FR Doc. 2023-15381 Filed 7-19-23; 8:45 am]

BILLING CODE 4184-01-P